ENVIRONMENTAL PROTECTION AGENCY

[EPA-HQ-OAR-2022-0025; FRL-10236-01-OMS]

Information Collection Request Submitted to OMB for Review and Approval; Comment Request; Emission Guidelines for Existing Commercial and Industrial Solid Waste Incineration Units (Renewal)

AGENCY: Environmental Protection Agency (EPA).

ACTION: Notice.

SUMMARY: The Environmental Protection Agency (EPA) has submitted an information collection request (ICR), Emission Guidelines for Existing Commercial and Industrial Solid Waste Incineration Units (EPA ICR Number1927.09, OMB Control Number 2060-0451), to the Office of Management and Budget (OMB) for review and approval in accordance with the Paperwork Reduction Act. This is a proposed extension of the ICR, which is currently approved through November 30, 2022. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 27, 2022.

ADDRESSES: Submit your comments, referencing Docket ID Number EPA-HQ-OAR-2022-0025, online using https://www.regulations.gov/ (our preferred method), or by email to docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The Emission Guidelines for Existing Commercial and Industrial Solid Waste Incineration Units (40 CFR part 60, subpart DDDD) fulfill the requirements of sections 111 and 129 of the Clean Air Act (CAA) and affect the administrator of an air quality program in a state or United States protectorate with one or more existing commercial and industrial solid waste incineration (CISWI) units. These regulations apply to sources commencing construction on or before June 4, 2010, or to sources commencing modification or reconstruction between June 1, 2001, and August 7, 2013. The guidelines do not apply directly to CISWI unit owners and operators, since they are implemented through state implementation plans (SIP). If a state does not develop, adopt, and submit an approved state plan, or if a state's plan is not approved, the EPA must promulgate a Federal implementation plan to implement the emission guidelines in a state without its own SIP. This information is being collected to assure compliance with 40 CFR part 60, subpart DDDD. In general, all emission guideline standards require initial notification reports, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the emission guidelines.

Form Numbers: None.

Respondents/affected entities: Commercial and Industrial Solid Waste Incineration (CISWI) units commencing construction either on or before June 4, 2010, or to sources commencing either modification or reconstruction between June 1, 2001 and August 7, 2013.

Respondent's obligation to respond: Mandatory (40 CFR part 60, subpart DDDD).

Estimated number of respondents: 74 (total).

Frequency of response: Semiannually and annually.

Total estimated burden: 16,100 hours (per year). Burden is defined at 5 CFR 1320.3(b).

Total estimated cost: $3,110,000 (per year), which includes $1,170,000 in annualized capital/startup and/or operation & maintenance costs.

Changes in the Estimates: There is no change in burden from the most-recently approved ICR as currently identified in the OMB Inventory of Approved Burdens. This is due to two considerations: (1) the regulations have not changed over the past three years and are not anticipated to change over the next three years; and (2) the growth rate for this industry is very low or non-existent, so there is no significant change in the overall burden.

There is a slight increase in the capital and O&M costs due to an adjustment to the estimated cost per respondent to reflect 2020 dollars using the Chemical Engineering Plant Cost Index (CEPCI), Equipment Cost Index, and the use of updated labor rates for continuous parameter monitoring from the most-recent Bureau of Labor Statistics report (September 2021).

Courtney Kerwin,
Director, Regulatory Support Division.

[FR Doc. 2022-20876 Filed 9-26-22; 8:45 am]

BILLING CODE 6560-50-P